FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[June 1, 2011 thru June 30, 2011]
ET date | Trans. No. | ET req status | Party name
06/01/2011 | 20110899 | G | Station Holdeo LLC; Green Valley Ranch Gaming, LLC; Station Holdco LLC.
| 20110912 | G | Harvest Partners V, L.P.; Blue Point Capital Partners II, L.P.; Harvest Partners V, L.P.
| 20110916 | G | DMWSL 668 Limited; Bridgepoint Capital Nominees Limited; DMWSL 668 Limited.
06/02/2011 | 20110890 | G | AMEC plc; MACTEC, Inc.; AMEC plc.
| 20110896 | G | National Instruments Corporation; AWR Corporation; National Instruments Corporation.
06/03/2011 | 20110823 | G | VSE Corporation; Joan Wheeler; VSE Corporation.
| 20110900 | G | EMCOR Group, Inc.; Transfield Services Limited; EMCOR Group, Inc.
06/06/2011 | 20110904 | G | MCMC Holdings, LLC; Steven M. Mariano; MCMC Holdings, LLC.
| 20110911 | G | Nuance Communications, Inc.; Equitrac Corporation; Nuance Communications, Inc.
| 20110913 | G | Genstar Capital Partners V, L.P.; Brockway Moran & Partners Fund II, L.P.; Genstar Capital Partners V, L.P.
| 20110919 | G | Thomas H. Lee Equity Fund VI, L.P.; JLL Partners Fund VI, L.P.; Thomas H. Lee Equity Fund VI, L.P.
| 20110920 | G | Spectra Energy Corp.; EQT Corporation; Spectra Energy Corp.
| 20110922 | G | Symantec Corporation; Clearwell Systems, Inc.; Symantec Corporation.
| 20110925 | G | Exterran Partners, L.P.; Exterran Holdings, Inc.; Exterran Partners, L.P.
| 20110929 | G | Fila Korea Ltd.; Fortune Brands, Inc.; Fila Korea Ltd.
| 20110930 | G | KOFC Miraeasset Growth Champ 2010-4 Private Equity Fund; Fortune Brands, Inc.; KOFC Miraeasset Growth Champ 2010-4 Private Equity Fund.
| 20110935 | G | Robert M. Chipman; LPF Atlanta LLC; Robert M. Chipman.
| 20110936 | G | 2003 TIL Settlement; LPF Atlanta LLC; 2003 TIL Settlement.
| 20110937 | G | Publicis Groupe S.A.; Lindsay Goldberg & Bessemer II MV L.P.; Publicis Groupe S.A.
| 20110938 | G | TPG Partners VI, L.P.; PRIMEDIA Inc.; TPG Partners VI, L.P.
06/07/2011 | 20110901 | G | Kratos Defense & Security Solutions, Inc.; Integral Systems, Inc.; Kratos Defense & Security Solutions, Inc.
| 20110923 | G | Leeds Equity Partners V, L.P.; Nobel Learning Communities, Inc.; Leeds Equity Partners V, L.P.
| 20110946 | G | Kinove Luxembourg Holdings I S.a.r.l. (“KLH I”); Evonik Industries AG; Kinove Luxembourg Holdings I S.a.r.l. (“KLH I”).
| 20110957 | G | Golden Gate Capital Opportunity Fund, L.P.; California Pizza Kitchen, Inc.; Golden Gate Capital Opportunity Fund, L.P.
06/09/2011 | 20110880 | G | Constellation Energy Group, Inc.; MXenergy Holdings Inc.; Constellation Energy Group, Inc.
06/10/2011 | 20110874 | G | PepsiCo, Inc. Pastega Investment Company LLC; PepsiCo, Inc.
| 20110917 | G | Roger S. Penske; Donald J. Crevier; Roger S. Penske.
| 20110945 | G | University of Maryland Medical System Corporation; Civista Health, Inc.; University of Maryland Medical System Corporation.
| 20110953 | G | Wayzata Opportunities Fund, LLC; Entegra Power Group LLC; Wayzata Opportunities Fund, LLC.
| 20110954 | G | Wayzata Opportunities Fund II, L.P.; Entegra Power Group LLC; Wayzata Opportunities Fund II, L.P.
| 20110956 | G | Honeywell International Inc.; Sunoco, Inc.; Honeywell International Inc.
| 20110960 | G | Sunoco Logistics Partners L.P.; Sunoco, Inc.; Sunoco Logistics Partners L.P.
06/13/2011 | 20110867 | G | Ebro Food S.A.; SOS Corporacion Alementaria, S.A.; Ebro Food S.A.
| 20110918 | G | 2003 TIL Settlement; Thoma Cressey Fund VIII, L.P.; 2003 TIL Settlement.
| 20110942 | G | Wells Fargo & Company; Castle Pines Partners LLC; Wells Fargo & Company.
06/14/2011 | 20110891 | G | The AES Corporation; DPL Inc.; The AES Corporation.
| 20110965 | G | Water Street Healthcare Partners II, L.P.; Michael C. Bicker; Water Street Healthcare Partners II, L.P.
06/15/2011 | 20110870 | G | CenturyLink, Inc.; SAVVIS, Inc.; CenturyLink, Inc.
| 20110875 | G | John C. Malone; Liberty Splitco, Inc.; John C. Malone.
| 20110876 | G | Robert R. Bennett; Liberty Splitco, Inc.; Robert R. Bennett.
| 20110941 | G | Alinda Infrastructure Fund II, L.P.; General Electric Company; Alinda Infrastructure Fund II, L.P.
| 20110948 | G | Norpax LLC; Nortel Networks Corporation; Norpax LLC.
| 20110955 | G | The Resolute Fund II, L.P.; Odyssey Investment Partners Fund III, L.P.; The Resolute Fund II, L.P.
| 20110966 | G | Tutor Perini Corporation; Lunda Construction Company; Tutor Perini Corporation.
06/16/2011 | 20110881 | G | Microsoft Corporation; Skype Global S.a.r.l.; Microsoft Corporation.
06/17/2011 | 20110878 | G | Daimler AG; Tognum AG; Daimler AG.
| 20110879 | G | Rolls-Royce Group plc; Tognum AG; Rolls-Royce Group plc.
| 20110975 | G | The Doctors Company; FPIC Insurance Group, Inc.; The Doctors Company.
| 20110976 | G | Tulip Holding Limited; Churchill Equity and ESOP, L.L.C.; Tulip Holding Limited.
| 20110979 | G | Seedling Trust U/A DTD 11/01/2006; Flakeboard Company Limited; Seedling Trust U/A DTD 11/01/2006.
| 20110981 | G | Heaven Hill Distilleries, Inc.; Donn S. Lux, Trustee of the Ann S. Lux 2005 Irrevocable Trus; Heaven Hill Distilleries, Inc.
| 20110984 | G | Exelon Corporation; Shepherd Investments International, Ltd.; Exelon Corporation.
| 20110986 | G | Deckers Outdoor Corporation; C&C Partners, Ltd.; Deckers Outdoor Corporation.
| 20110987 | G | Aurubis AG; Nordic Capital V, L.P.; Aurubis AG.
| 20110989 | G | Basic Energy Services, Inc.; Maverick Stimulation Company, LLC; Basic Energy Services, Inc.
| 20110990 | G | Valour Holdings, L.P.; Wind Point Partners IV, L.P.; Valour Holdings, L.P.
| 20110993 | G | Lundbeckfonden (The Lundbeck Foundation); Nordic Capital V Ltd.; Lundbeckfonden (The Lundbeck Foundation).
| 20110997 | G | Bank of America Corporation; ING Furman Selz Investors III L.P.; Bank of America Corporation.
06/20/2011 | 20110967 | G | IH AIV, a to-be-formed limited partnership; VS&A Communications Partners III, L.P.; IH AIV, a to-be-formed limited partnership.
| 20110983 | G | Pola Orbis Holdings Inc.; H2O Plus Holdings, LLC; Pola Orbis Holdings Inc.
06/21/2011 | 20110999 | G | GTCR Fund X/B L.P.; Emmis Communications Corporation; GTCR Fund X/B L.P.
06/22/2011 | 20110842 | G | Apple Inc.; Nortel Networks Corporation; Apple Inc.
06/23/2011 | 20110963 | G | The Timken Company; American Manufacturing Corporation; The Timken Company.
| 20110972 | G | Dynamics Research Corporation; Timothy P. Keenan; Dynamics Research Corporation.
| 20110982 | G | Rockstar Bidco, LP; Nortel Networks Corporation; Rockstar Bidco, LP.
| 20110988 | G | Intel Corporation; Nortel Networks Corporation; Intel Corporation.
| 20110992 | G | CF Turul LLC; Harbinger Capital Partners Master Fund I, Ltd.; CF Turul LLC.
| 20110996 | G | Roark Capital Partners II, LP; Wendy's/Arby's Group, Inc.; Roark Capital Partners II, LP.
| 20110998 | G | The Allstate Corporation; White Mountains Insurance Group, Ltd.; The Allstate Corporation.
06/24/2011 | 20110940 | G | Thomas H. Lee (Alternative) Fund VI, L.P.; Sword Group SE; Thomas H. Lee (Alternative) Fund VI, L.P.
| 20110980 | G | Carl C. Icahn; Forest Laboratories, Inc.; Carl C. Icahn.
| 20111001 | G | Allstar AIV, a to-be formed limited partnership; Academy Holdings, Inc.; Allstar AIV, a to-be formed limited partnership.
| 20111003 | G | Joh. A. Benckiser SE; TowerBrook Investors II, L.P.; Joh. A. Benckiser SE.
| 20111008 | G | Joe R. Davis; Consolidated Graphics, Inc.; Joe R. Davis.
| 20111010 | G | Audax Private Equity Fund III, L.P.; Integrated Supply Network, Inc.; Audax Private Equity Fund III, L.P.
| 20111012 | G | Marathon Oil Corporation; Jeffery D. Hildebrand; Marathon Oil Corporation.
| 20111013 | G | LyondellBasell Industries, N.V.; B.P. p.l.c.; LyondellBasell Industries, N.V.
| 20111014 | G | Sealed Air Corporation; Appointive Distributing Trust B u/a Samuel Johnson 1988 T#1 ; Sealed Air Corporation.
| 20111025 | G | DG FastChannel, Inc.; MediaMind Technologies Inc.; DG FastChannel, Inc.
06/27/2011 | 20110973 | G | Moelis Capital Partners Opportunity Fund I, LP; Roark Capital Partners, LP; Moelis Capital Partners Opportunity Fund I, LP.
| 20111011 | G | Telephone and Data Systems, Inc. Voting Trust; OneNeck IT Services Corporation; Telephone and Data Systems, Inc. Voting Trust.
| 20111020 | G | Experian plc; Medical Present Value, Inc.; Experian plc.
06/28/2011 | 20110995 | G | Ashland Inc.; Ronnie F. Heyman; Ashland Inc.
| 20111006 | G | Securitas AR; Niscayah Group AR; Securitas AB.
06/29/2011 | 20111004 | G | WellPoint, Inc.; JPMorgan Chase & Co.; WellPoint, Inc.
| 20111026 | G | Herff Jones, Inc.; Green Equity Investors IV, L.P.; Herff Jones, Inc.
06/30/2011 | 20110978 | G | QUALCOMM, Incorporated; Massih Tayebi and Haleh Tayebi; QUALCOMM, Incorporated.

FOR FURTHER INFORMATION CONTACT: Renee Chapman, Contact Representative, Federal Trade Commission, Premerger Notification Office, Bureau of Competition, Room H-303, Washington, DC 20580, (202) 326-3100.

By Direction of the Commission.
Donald S. Clark,
Secretary.

[FR Doc. 2011-17525 Filed 7-14-11; 8:45 am]

BILLING CODE 6750-01-M